DEPARTMENT OF HEALTH AND HUMAN SERVICES

National Institutes of Health

Center for Scientific Review; Amended Notice of Meeting

Notice is hereby given of a change in the meeting of the Molecular Oncogenesis Study Section, October 27, 2020, 9:00 a.m. to October 28, 2020, 5:00 p.m., National Institutes of Health, Rockledge II, 6701 Rockledge Drive, Bethesda, MD 20892 which was published in the Federal Register on September 02, 2020, 85 FR Page 54587.

The meeting has been changed from October 7-8, 2020 to October 27-28, 2020. The meeting time and place remains the same. The meeting is closed to the public.

Dated: September 24, 2020.
Melanie J. Pantoja,
Program Analyst, Office of Federal Advisory Committee Policy.

[FR Doc. 2020-21552 Filed 9-29-20; 8:45 am]

BILLING CODE 4140-01-P